ENVIRONMENTAL PROTECTION AGENCY

[FRL-9972-88-ORD]

Environmental Laboratory Advisory Board Meeting Dates and Agenda

AGENCY: Environmental Protection Agency (EPA).

ACTION: Notice of teleconference and face-to-face meetings.

The Environmental Protection Agency's (EPA) Environmental Laboratory Advisory Board (ELAB) holds teleconference meetings the third Wednesday of each month at 1:00 p.m. ET and two face-to-face meetings each calendar year. For 2018, teleconference only meetings will be February 21; March 21; April 18; May 16; June 20; July 18; September 19; October 17; November 21; and December 19 to discuss the ideas and views presented at the previous ELAB meetings, as well as new business. Items to be discussed by ELAB over these coming meetings include: (1) Issues in continuing the expansion of national environmental accreditation; (2) ELAB support to the Agency on issues relating to measurement and monitoring for all programs; and (3) follow-up on some of ELAB's past recommendations and issues. In addition to these teleconferences, ELAB will be hosting their two face-to-face meetings with teleconference line also available on January 22, 2018 at the Hyatt Regency in Albuquerque, NM at 1:00 p.m. (MT) (due to unforeseen administrative circumstances, EPA is announcing this meeting with less than 15 calendar days' notice) and on August 6, 2018 at the Hyatt Regency in New Orleans, LA at 1:00 p.m. (CT). Written comments on laboratory accreditation issues and/or environmental monitoring or measurement issues are encouraged and should be sent to Ms. Lara P. Phelps, Designated Federal Official, US EPA (E243-05), 109 T. W. Alexander Drive, Research Triangle Park, NC 27709 or emailed to phelps.lara@epa.gov. Members of the public are invited to listen to the teleconference calls, and time permitting, will be allowed to comment on issues discussed during this and previous ELAB meetings. Those persons interested in participating in ELAB teleconference meetings should call Lara P. Phelps at (919) 541-5544 to obtain teleconference information. For information on access or services for individuals with disabilities, please contact Lara P. Phelps at the number above, preferably at least 10 days prior to the meeting, to give EPA as much time as possible to process your request.

Dated: December 28, 2017.
Jennifer Orme-Zavaleta,
Science Advisor, Office of the Science Advisor.

[FR Doc. 2018-00284 Filed 1-9-18; 8:45 am]

BILLING CODE 6560-50-P